DEPARTMENT OF ENERGY

Federal Energy Regulatory Commission

Combined Notice of Filings

January 28, 2011.

Take notice that the Commission has received the following Natural Gas Pipeline Rate and Refund Report filings:

Docket Numbers: RP11-1719-000.

Applicants: El Paso Natural Gas Company.

Description: El Paso Natural Gas Company submits tariff filing per 154.204: Incorporation of Previously Accepted Tariff Provisions to be effective 2/24/2011.

Filed Date: 01/24/2011.

Accession Number: 20110124-5112.

Comment Date: 5 p.m. Eastern Time on Monday, February 07, 2011.

Docket Numbers: RP11-1720-000.

Applicants: Northern Natural Gas Company.

Description: Petition of Northern Natural Gas Company For a Limited Waiver of Tariff Provisions.

Filed Date: 01/24/2011.

Accession Number: 20110124-5165.

Comment Date: 5 p.m. Eastern Time on Monday, February 07, 2011.

Docket Numbers: RP11-1721-000.

Applicants: Midcontinent Express Pipeline LLC.

Description: Penalty Revenue Crediting Report of Midcontinent Express Pipeline LLC.

Filed Date: 01/25/2011.

Accession Number: 20110125-5170.

Comment Date: 5 p.m. Eastern Time on Monday, February 07, 2011.

Docket Numbers: RP11-1722-000.

Applicants: Fayetteville Express Pipeline LLC.

Description: Fayetteville Express Pipeline LLC submits tariff filing per 154.403(d)(2): FEP Out of Cycle Fuel Reimbursement Percentage Adjustment to be effective 3/1/2011.

Filed Date: 01/26/2011.

Accession Number: 20110126-5169.

Comment Date: 5 p.m. Eastern Time on Monday, February 07, 2011.

Docket Numbers: RP11-1723-000.

Applicants: Great Lakes Gas Transmission Limited Partnership.

Description: Great Lakes Gas Transmission Limited Partnership submits tariff filing per 154.204: Allocation Methodology to be effective 3/1/2011.

Filed Date: 01/26/2011.

Accession Number: 20110126-5288.

Comment Date: 5 p.m. Eastern Time on Monday, February 07, 2011.

Docket Numbers: RP11-1724-000.

Applicants: Williston Basin Interstate Pipeline Company.

Description: Williston Basin Interstate Pipeline Company submits tariff filing per 154.204: Non-Conforming Service Agreements to be effective 2/25/2011.

Filed Date: 01/26/2011.

Accession Number: 20110126-5302.

Comment Date: 5 p.m. Eastern Time on Monday, February 07, 2011.

Docket Numbers: RP11-1725-000.

Applicants: Transcontinental Gas Pipe Line Company, LLC.

Description: Transcontinental Gas Pipe Line Company, LLC submits tariff filing per 154.403: S-2 Tracker Filing to be effective 2/1/2011.

Filed Date: 01/27/2011.

Accession Number: 20110127-5003.

Comment Date: 5 p.m. Eastern Time on Tuesday, February 08, 2011.

Docket Numbers: RP11-1726-000.

Applicants: Northern Natural Gas Company.

Description: Northern Natural Gas Company submits tariff filing per 154.204: 20110110 Miscellaneous Tariff Filing to be effective 2/27/2011.

Filed Date: 01/27/2011.

Accession Number: 20110127-5056.

Comment Date: 5 p.m. Eastern Time on Tuesday, February 08, 2011.

Docket Numbers: RP11-1727-000.

Applicants: Eastern Shore Natural Gas Company.

Description: Eastern Shore Natural Gas Company submits tariff filing per 154.204: Pre-Certification Cost Surcharge of FERC Gas Tariff to be effective 3/1/2011.

Filed Date: 01/27/2011.

Accession Number: 20110127-5139.

Comment Date: 5 p.m. Eastern Time on Tuesday, February 08, 2011.

Docket Numbers: RP11-1728-000.

Applicants: Midwestern Gas Transmission Company.

Description: Midwestern Gas Transmission Company submits tariff filing per 154.204: Non-Conforming Agreement—Chevron 1-26-11 to be effective 2/1/2011.

Filed Date: 01/27/2011.

Accession Number: 20110127-5162.

Comment Date: 5 p.m. Eastern Time on Tuesday, February 08, 2011.

Docket Numbers: RP11-1729-000.

Applicants: Trunkline Gas Company, LLC.

Description: Trunkline Gas Company, LLC submits tariff filing per 154.204: Negotiated Rates Filing-5 to be effective 2/1/2011.

Filed Date: 01/28/2011.

Accession Number: 20110128-5048.

Comment Date: 5 p.m. Eastern Time on Wednesday, February 09, 2011.

Docket Numbers: RP11-1730-000.

Applicants: Southern LNG Company, L.L.C.

Description: Southern LNG Company, L.L.C. submits tariff filing per 154.204: Dredging Surcharge Cost Adjustment to be effective 3/1/2011.

Filed Date: 01/28/2011.

Accession Number: 20110128-5050.

Comment Date: 5 p.m. Eastern Time on Wednesday, February 09, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-2627 Filed 2-4-11; 8:45 am]

BILLING CODE 6717-01-P